DEPARTMENT OF HEALTH AND HUMAN SERVICES

Food and Drug Administration

Statement of Organization, Functions, and Delegations of Authority

AGENCY: Food and Drug Administration, Department of Health and Human Services.

ACTION: Notice.

SUMMARY: The Food and Drug Administration (FDA), Office of the Commissioner, Headquarters organizations, and Centers have modified their organizational structure

DATES: This organization was approved by the Secretary of Health and Human Services on March 5, 2024, and became effective on May 13, 2024.

FOR FURTHER INFORMATION CONTACT: Yashika Rahaman, Director, Office of Planning, Evaluation, and Risk Management, Office of the Finance, Budget, Acquisitions and Planning, Food and Drug Administration, 10903 New Hampshire Avenue, WO32, Room 4216, Silver Spring, MD 20993, 301-796-4710.

SUPPLEMENTARY INFORMATION: Part D, Chapter D-B, (Food and Drug Administration), the Statement of Organization, Functions, and Delegations of Authority for the Department of Health and Human Services (35 FR 3685, February 25, 1970; 60 FR 56606, November 9, 1995, 64 FR 36361, July 6, 1999, 72 FR 50112, August 30, 2007; 74 FR 41713, August 18, 2009, 76 FR 45270, July 28, 2011, and 84 FR 22854, May 20, 2019) is amended to reflect the approved Food and Drug Administration's Human Foods reorganization.

The Food and Drug Administration (FDA) is focused on transforming its organization structure to be more efficient, nimble, and ready for the future with the ever-changing and complex industries we regulate, including the emergence of new food and medical product technologies, the impacts of globalization, climate change and other factors that require FDA to quickly adapt to a consistently evolving world.

FDA carefully reviewed the findings and recommendations of the Reagan-Udall Foundation evaluation, an internal review of FDA's infant formula response and feedback from external and internal stakeholders during events such as listening sessions with FDA employees. The approved changes in the Human Foods Program (HFP) would allow us to fully realize the preventive vision laid out in the FDA Food Safety Modernization Act, elevate the importance of nutrition, strengthen local, state, and international partnerships, position the FDA to regulate innovative food and agricultural products more effectively, and uphold safety of the nation's food supply. The organizational changes impact other products that FDA regulates, such as medical products and cosmetics, by promoting more streamlined, efficient decision-making and strengthening the enterprise-wide structure to enhance collaboration across FDA.

The intent is to have a modernized FDA that optimizes resources to help the agency meet its public health mission; provide employees with clearer priorities and more career opportunities; and comply with recent legislation such as the Food and Drug Omnibus Reform Act of 2022 (FDORA) mandating the establishment of the Office of Critical Foods, and the Modernization of Cosmetics Regulation Act of 2022 (MoCRA) to ensure the safety of cosmetics products.

The reorganization establishes the HFP by realigning the functions of the Center for Food Safety and Applied Nutrition (CFSAN), Office of Food Policy and Response, as well as key functions from the Office of Regulatory Affairs (ORA) including human foods compliance, Human and Animal Food Laboratories, and State Partnerships to this new organization. The reorganization will also:

Realign ORA's compliance functions to Center for Biologics Evaluation and Research's Office of Compliance and Biologics Quality, Center for Devices and Radiological Health's Office of Product Evaluation and Quality, Center for Drug Evaluation and Research's Office of Compliance and its substructure organizations, and the Center for Veterinary Medicine's Office of Surveillance and Compliance.

Realign ORA's laboratory safety functions and resources as well as the Medical Product and Specialty Laboratories safety functions and resources to the Office of the Chief Scientist.

Retitle ORA to the Office of Inspections and Investigations (OII) and establish new inspection and investigation offices to focus on inspections, investigations, and imports as its core mission.

Realign emergency response functions and resources from the Office of Operations' Office of Security and Emergency Management to OII.

Realign select functions to strengthen the Office of the Commissioner (OC) and headquarter organizations, including:

Establish, within OC immediate organization, the Office of Enterprise Transformation to focus on key information technology transformation projects across FDA.

Realign the Office of Planning, Evaluation and Risk Management, within OC immediate organization, to focus on strategic initiatives for FDA.

Retitle the Office of Clinical Policy and Programs and realign functions to form the Office of the Chief Medical Officer.

Retitle the Office of External Affairs' Stakeholder Engagement Staff to Public Engagement Staff.

Realign select functions to strengthen the Office of Operations (OO) and substructure organizations, including:

Realign the Office of Executive Secretariat's Freedom of Information Staff functions and resources from the OC's Immediate Office to OO's Office of Enterprise Management Services (OEMS) to consolidate and streamline information disclosure operations.

Retitle OO's OEMS to the Office of Management and Enterprise Services (OMES). Restructure the organization by establishing two office level organizations: the Office of Disclosure, Information Governance, and Accessibility (ODIGA) and the Office of Management (OM) and substructure organizational components within OMES.

Retitle OO's Office of Security and Emergency Management (OSEM) to the Office of Security and Passport Operations (OSPO). Abolish the substructure organizations, and establish the Division of Personnel Security and Credentialing, the Division of Physical Security and Integration, and the Division of Resource Integration and Passport Operations.

Retitle OO's Office of Finance, Budget, Acquisitions and Planning (OFBAP) to the Office of Finance, Budget, and Acquisitions (OFBA).

Realign travel functions and resources from ORA to the Office of Financial Management within OFBA.

Abolish OO's Office of Facilities Engineering and Mission Support Services' (OFEMS) Employee Safety and Occupational Health Staff (ESOHS) and realign emergency safety and occupational health functions from OFEMS to the Office of the Chief Scientist (OCS).

Realign select functions to strengthen the OCS and substructure organizations, as follows:

Establish an Administrative Staff organizational component and realign functions and resources from within the immediate organization into this new component.

Realign the Informatics and Business Operations Staff from the ORA Office of Regulatory Science to the OCS immediate organization.

Merge the Office of Counter-Terrorism and Emerging Threats, and the Office of Regulatory Science and Innovation, to form the Office of Regulatory and Emerging Science. Establish the Communications and Outreach Staff, the Preparedness Research Staff and the Regulatory Science Staff to this new organization.

Merge the Office of Laboratory Safety and OO's ESOH within OFEMS to the organization titled as the Office of Occupational Safety and Health (OOSH). Within the OOSH, merge the functions of the former OO ESOH with those of the OCS Office of Laboratory Safety, and establish the Occupational Safety Staff and the Occupational Health Services Staff to this new organizational component.

Realign the Office of Cosmetics and Colors organization, including its Divisions and Branches, functions and resources, from CFSAN to OCS.

Establish the Office of Analytical and Regulatory Laboratories and realign resources from the ORA Office of Medical Products Laboratory Operations and substructure organizations, and realign functions from within the CFSAN Office of Regulatory Science to this new organization which will be a direct report to OCS.

Establish the Office of Specialty Laboratories and Enforcement Support and realign functions from the ORA's Office of Medical Products Laboratory Operations within the Office of Regulatory Science to this new organization which will be a direct report to OCS.

Establish the Office of Science and Laboratory Advancement and realign functions from ORA's Office of Safety within the Office of Regulatory Science to this new organization which will be a direct report to OCS.

DCA. ORGANIZATION. To reflect these changes, Part D, Section D-B, is replaced with the following:

The Office of the Commissioner is headed by the Commissioner of Food and Drugs, and includes the following organizational units:

Office of the Commissioner (DCA)

Office of the Chief Counsel (DCAA)

Office of the Executive Secretariat (DCAB)

Office of the Counselor to the Commissioner (DCAC)

Office of Digital Transformation (DCAD)

Strategy and Operations Staff (DCAD1)

Office of Information Management and Technology (DCADA)

Office of Technology and Delivery (DCADAA)

Delivery Management Support Staff (DCADAA1)

Division of Infrastructure Operations (DCADAAA)

Infrastructure Management Services Staff (DCADAAA1)

Implementation Branch (DCADAAA2)

Infrastructure Engineering Branch (DCADAAA3)

Systems Monitoring and Response Branch (DCADAAA4)

Systems Operations Branch (DCADAAA5)

Network and Communications Operations Branch (DCADAAA6)

Division of Application Services (DCADAAB)

Application Management Services Staff (DCADAAB1)

Data Management and Operations Branch (DCADAAB2)

Medical Products Branch (DCADAAB3)

OC, CVM, CTP Branch (DCADAAB4)

ORA, CFSAN Branch (DCADAAB5)

Enterprise Application Branch (DCADAAB6)

Office of Business and Customer Assurance (DCADAB)

Division of Business Partnership and Support (DCADABA)

Internet and Intranet Branch (DCADABA1)

Call Center Branch (DCADABA2)

Regional Support Branch (DCADABA3)

Property Receiving and Distribution Branch (DCADABA4)

Employee Resource and Information Center (DCADABA5)

Division of Management Services (DCADABB)

Office of Enterprise Portfolio Management (DCADAC)

Office of Information Security (DCADB)

Office of Data Analytics and Research (DCADC)

Data Staff (DCADC1)

Health Informatics Staff (DCADC2)

Knowledge Management Staff (DCADC3)

Office of Enterprise Transformation (DCAE)

Office of Planning, Evaluation, and Risk Management (DCAG)

Administrative Staff (DCAG1)

Strategic Planning and Change Management Staff (DCAG2)

Evaluation and Analytics Staff (DCAG3)

Enterprise Risk Management Staff (DCAG4)

Performance Management Staff (DCAG5)

DCBC. ORGANIZATION. The Office of Compliance and Biologics Quality within the Center for Biologics Evaluation and Research is headed by the Director for Compliance and Biologics Quality and includes the following organizational units:

Office of Compliance and Biologics Quality (DCBC)

Division of Case Management (DCBCA)

Blood and Tissue Compliance Branch (DCBCA1)

Advertising and Promotional Labeling Branch (DCBCA2)

Biological Drug and Device Compliance Branch 1 (DCBCA3)

Biological Drug and Device Compliance Branch 2 (DCBCA4)

Division of Inspections and Surveillance (DCBCB)

Program Surveillance Branch (DCBCB1)

Bioresearch Monitoring Branch (DCBCB2)

Field Surveillance Branch (DCBCB3)

Division of Manufacturing and Product Quality (DCBCC)

Product Release Branch (DCBCC1)

Manufacturing Review Branch 1 (DCBCC2)

Manufacturing Review Branch 2 (DCBCC3)

Manufacturing Review Branch 3 (DCBCC4)

Applications Review Branch (DCBCC5)

Division of Biological Standards and Quality Control (DCBCD)

Quality Assurance Branch (DCBCD2)

Laboratory of Microbiology, In-Vivo Testing and Standards Branch (DCBCD3)

Laboratory of Analytical Chemistry (DCBCD4)

Laboratory of Biochemistry, Virology, and Immunochemistry Branch (DCBCD5)

Laboratory of Blood Related Products Branch (DCBCD6)

DCDF. ORGANIZATION. The Office of Compliance within the Center for Drug Evaluation and Research is headed by the Director for Compliance and includes the following organization units:

Office of Compliance (DCDF)

Program Management and Analysis Staff (DCDF1)

Office of Manufacturing Quality (DCDFA)

Manufacturing Guidance and Policy Staff (DCDFA1)

Regulatory Compliance and Analysis Staff (DCDFA2)

Division of Drug Quality I (DCDFAA)

Division of Drug Quality II (DCDFAB)

Division of Drug Quality III (DCDFD)

Office of Unapproved Drugs and Labeling Compliance (DCDFB)

Division of Unapproved New Drugs and Labeling (DCDFBB)

Fraud Drugs Branch (DCDFBB2)

Prescription Drugs Branch (DCDFBB3)

Division of Labeling, Regulation, Regulation and Unapproved Drugs (DCDFBC)

Over-The-Counter Drug Branch (DCDFBC1)

Drug Registration and Listing Branch (DCDFBC2)

Office of Scientific Investigations (DCDFC)

Policy Staff (DCDFC1)

Division of Good Clinical Practice Compliance (DCDFCA)

Good Clinical Practice Enforcement Branch (DCDFCA1)

Good Clinical Practice Assessment Branch (DCDFCA2)

Division of Safety Compliance (DCDFCB)

Division of Enforcement and Post-market Safety (DCDFCC)

Compliance Enforcement Branch (DCDFCC1)

Post-marketing Safety Branch (DCDFCC2)

Division of Clinical Compliance Evaluation (DCDFCD)

Good Clinical Practice Compliance Oversight Branch DCDFCD1)

Good Clinical Practice Assessment Branch (DCDFCD2)

Office of Drug Security Integrity and Response (DCDFD)

Division of Global Drug Distribution and Policy (DCDFDA)

Imports Compliance Branch (DCDFDA3)

Exports Compliance Branch (DCDFDA4)

Division of Supply Chain Integrity (DCDFDB)

Incidents, Recalls, and Shortage Branch (DCDFDB3)

Supply Chain Security Branch (DCDFDB4)

Office of Program and Regulatory Operations (DCDFE)

Program and Regulatory Operations Staff 1 (DCDFE1)

Program and Regulatory Operations Staff 2 (DCDFE2)

Project Management and Coordination Staff 3 (DCDFE4)

Office of Compounding Quality and Compliance (DCDFF)

Division of Compounding I (DCDFFA)

Compounding Branch 1 (DCDFFA1)

Compounding Branch 2 (DCDFFA2)

Compounding Branch 3 (DCDFFA3)

Division of Compounding II (DCDFFB)

Compounding Branch 4 (DCDFFB2)

Compounding Branch 5 (DCDFFB3)

Compounding Branch 6 (DCDFFB4)

Division of Compounding Policy and Outreach (DCDFFC)

Compounding Branch 7 (DCDFFC3)

Compounding Branch 8 (DCDFFC4)

DCGD. ORGANIZATION. The Office of Surveillance and Compliance within the Center for Veterinary Medicine is headed by the Director of Surveillance and Compliance and includes the following organization units:

Office of Surveillance and Compliance (DCGD)

Regulatory Counsel Staff (DCGD1)

Business Management and Operations Staff (DCGD2)

Division of Pharmacovigilance and Surveillance (DCGDA)

Marketed Product Information Branch (DCGDA1)

Food Animal, BioPharm, Small Animal Antiparasitics and Endectocides Branch (DCGDA2)

Small Animal Antibiotics/Anesthectics/NSAIDS/Oncology/Others Branch (DCGDA3)

Division of Animal Food Ingredients (DCGDB)

Program-Business Branch (DCGDB1)

Biotechnology Branch (DCGDB2)

Chemistry Manufacturing and Controls (CMC) Tech Additives Branch (DCGDB3)

Nutrients Claims Branch (DCGDB4)

Division of Drug Compliance (DCGDC)

Drug and Devices—Veterinary Medical Support Branch (DCGDC1)

Drug and Devices-Compliance Support Branch (DCGDC2)

Bioresearch Monitoring (BIMO) and Current Good Manufacturing Practice (CGMP) Branch (DCGDC3)

Division of Food Compliance (DCGDE)

Complaints, Emergencies, and Recall Team (CERT) Branch (DCGDE1)

Field Operations and Investigations Branch (DCGDE2)

Regulatory Policy and Program Branch (DCGDE3)

Science Policy Branch (DCGDE4)

Compliance Action Branch (DCGDE5)

DCJ. ORGANIZATION. The Office of the Chief Medical Officer is headed by the Chief Medical Officer, and includes the following organization units:

Office of the Chief Medical Officer (DCJ)

Office of Clinical Policy (DCJA)

Office of Combination Products (DCJB)

Office of Orphan Products Development (DCJC)

Office of Pediatric Therapeutics (DCJD)

Office of Public Health Preparedness and Response (DCJE)

DCK. ORGANIZATION. The Office of External Affairs is headed by the Associate Commissioner for External Affairs, and includes the following organization units:

Office of External Affairs (DCK)

Operations Staff (DCK1)

Public Engagement Staff (DCK3)

Web and Digital Services Staff (DCK4)

Office of Editorial and Creative Services (DCKA)

Office of Media Affairs (DCKB)

DCN. ORGANIZATION. The Office of Operations is headed by the Deputy Commissioner for Operations and Chief Operations Officer and includes the following organization units:

Office of Operations (DCN)

Office of Management and Enterprise Services (DCNA)

Office of Disclosure, Information Governance, and Accessibility (DCNAF)

Division of Information Governance (DCNAFA)

eDiscovery Branch (DCNAFA1)

Records Management Branch (DCNAFA2)

Paperwork Reduction Act Branch (DCNAFA3)

Privacy Branch (DCNAFA4)

Dockets Management Branch (DCNAFA5)

Division of Information Disclosure (DCNAFB)

Freedom of Information Branch (DCNAFB1)

Disclosure Branch (DCNAFB2)

Division of Headquarters Freedom of Information (DCNAFC)

Division of Conflict Prevention, and Accessibility (DCNAFD)

Conflict Prevention and Resolution Branch (DCNAFD1)

Reasonable Accommodations Branch (DCNAFD2)

Office of Management (DCNAG)

Division of Resources Management (DCNAGA)

Office of the Commissioner Resource Management Branch (DCNAGA1)

Global Policy and Strategy Resource Management Branch (DCNAGA2)

Division of Human Capital (DCNAGB)

Human Capital Management Branch (DCNAGB1)

Human Capital Programs Branch (DCNAGB2)

Division of Acquisitions Management (DCNAGC)

Acquisitions Management Branch (DCNAGC1)

Acquisitions Support Branch (DCNAGC2)

Division of Management Services (DCNAGD)

Communications Branch (DCNAGD1)

Governance Branch (DCNAGD2)

Office of Ethics and Integrity (DCNB)

Office of Equal Employment Opportunity (DCNC)

Compliance Staff (DCNC1)

Office of Finance, Budget, and Acquisitions (DCNE)

Business Management Services Staff (DCNE1)

Office of Budget (DCNEA)

Division of Budget Formulation (DCNEAA)

Division of Budget Execution and Control (DCNEAB)

Division of Reorganizations and Delegations of Authority (DCNEAC)

Office of Acquisitions and Grants Services (DCNEB)

Training and Development Staff (DCNEB1)

Division of Acquisition Operations (DCNEBA)

Service Contracts Branch (DCNEBA1)

Contracts Operations Branch (DCNEBA2)

Scientific Support Branch (DCNEBA3)

Division of Acquisition Programs (DCNEBB)

Field Operations Branch (DCNEBB2)

Facilities Support Branch (DCNEBB3)

ORA Inspection Branch (DCNEBB4)

CTP Inspection Branch (DCNEBB5)

Division of Grants, Agreements and Acquisitions Support (DCNEBC)

Grants and Assistance Agreements Branch (DCNEBC1)

Contracts Administration Branch (DCNEBC4)

Division of Information Technology Acquisitions (DCNEBD)

Information Technology Acquisitions Branch (DCNEBD1)

Systems Technology Acquisitions Branch (DCNEBD2)

IT Strategic Support Branch (DCNEBD3)

Division of Policy, Systems and Program Support (DCNEBE)

Acquisitions Policy and Oversight Branch (DCNEBE2)

Innovation Systems and Data Quality Branch (DCNEBE3)

Office of Financial Management (DCNEC)

Financial Systems Support Staff (DCNEC1)

User Fee Support Staff (DCNEC2)

Operations Support Staff (DCNEC3)

Controls, Compliance and Oversight Staff (DCNEC4)

Division of Accounting (DCNECA)

Division of Payment Services (DCNECC)

Division of Travel Services (DCNECD)

Office of Facilities, Engineering and Mission Support Services (DCNG)

Jefferson Laboratories Complex Staff (DCNG1)

Facilities Program Staff (DCNG2)

Division of Operations Management and Community Relations (DCNGA)

Logistics and Transportation Management Branch (DCNGA1)

Facilities Maintenance and Operations Branch (DCNGA2)

Auxiliary Program Management Staff (DCNGA3)

Division of Planning, Engineering and Space Management (DCNGB)

Portfolio and Space Management Branch (DCNGB1)

Engineering Management Branch (DCNGB2)

Office of Security and Passport Operations (DCNH)

Special Operations Staff (DCNH1)

Division of Resource Integration and Passport Operations (DCNHC)

Resource Integration Branch (DCNHC1)

Passport Operations Branch (DCNHC2)

Division of Personnel Security and Credentialing (DCNHD)

Personnel Vetting Branch (DCNHD1)

Identity and Credentialing Services Branch (DCNHD2)

Division of Physical Security and Integration (DCNHE)

Physical Security Branch (DCNHE1)

Security Integration Branch (DCNHE2)

Office of Human Capital Management (DCNI)

Office of Talent Solutions (DCNJ)

Office of FDA Commissioned Corps (DCNK)

DCP. ORGANIZATION. The Office of the Chief Scientist is headed by the Chief Scientist and includes the following organization units:

Office of the Chief Scientist (DCP)

Advisory Committee Oversight and Management Staff (DCP1)

FDA Technology Transfer Program Staff (DCP2)

Administrative Management Staff (DCP3)

Informatics and Business Operations Staff (DCP4)

Office of Scientific Integrity (DCPD)

Office of Scientific Professional Development (DCPE)

National Center for Toxicological Research (DCPF)

Office of Occupational Safety and Health (DCPG)

Occupational Safety Staff (DCPG1)

Occupational Health Services Staff (DCPG2)

Office of Regulatory and Emerging Science (DCPH)

Regulatory Science Staff (DCPH1)

Preparedness Research Staff (DCPH2)

Communications and Outreach Staff (DCPH3)

Office of Cosmetics and Colors (DCPI)

Division of Color Certification and Technology (DCPIA)

Color Certification Branch (DCPIA1)

Color Technology Branch (DCPIA2)

Division of Cosmetics (DCPIB)

Cosmetics Regulatory Activities Branch (DCPIB1)

Cosmetics Regulatory Science Branch (DCPIB2)

Office of Analytical and Regulatory Laboratories (DCPJ)

Analytical and Regulatory Laboratories Staff (DCPJ1)

Detroit Medical Products Laboratory (DCPJA)

Irvine Medical Products Laboratory (DCPJB)

New York Medical Products Laboratory (DCPJC)

San Juan Medical Products Laboratory (DCPJD)

Tobacco Products Laboratory (DCPJE)

Office of Specialty Laboratories and Enforcement Support (DCPK)

National Forensic Chemistry Center (DCPKA)

Inorganic Branch (DCPKA1)

Organic Branch (DCPKA2)

Satellite Laboratory Branch (DCPKA3)

Winchester Engineering and Analytical Center (DCPKB)

Analytical Branch (DCPKB1)

Engineering Branch (DCPKB2)

Office of Science and Laboratory Advancement (DCPL)

Regulatory Operations Safety Staff (DCPL1)

DCR. ORGANIZATION. The Human Foods Program is headed by the Deputy Commissioner for Human Foods, and includes the following organizational units:

Human Foods Program (DCR)

Office of the Deputy Commissioner for Human Foods (DCRA)

Management Operations Staff (DCRA1)

Office of Executive Programs (DCRB)

Project and Portfolio Management Staff 1 (DCRB1)

Project and Portfolio Management Staff 2 (DCRB2)

Legislative and Program Issue Coordination and Executive Secretariat Staff (DCRB3)

Office of Strategic Programing (DCRC)

Office of Policy and International Engagement (DCRD)

Office of Policy, Regulations, and Information (DCRDA)

Regulation and Policy Development Staff (DCRDA1)

Government Information Policy Staff (DCRDA2)

Office of Policy Initiatives and Projects (DCRDB)

Office of International Engagement (DCRDC)

Public Health and Trade Staff (DCRDC1)

Regulatory Cooperation and Partnerships Staff (DCRDC2)

Office of Resource Management (DCRE)

Division of Budget and Planning (DCREA)

Budget Formulation Branch (DCREA1)

Budget Execution Branch (DCREA2)

Acquisition Liaison Branch (DCREA3)

Financial Operations Branch (DCREA4)

Division of Workforce Management (DCREB)

Recruitment Liaison Branch (DCREB1)

Workforce Policy and Programs Branch (DCREB2)

Staff College (DCREB3)

Division of Information Technology Management (DCREC)

Regulatory and Data Management Branch (DCREC1)

Scientific Computing and IT Support Branch (DCREC2)

Division of Safety and Facilities Management (DCRED)

Division of Travel Management and Operations Support (DCREE)

Division of Management Support and Analysis (DCREF)

Office of Communications, Education, and Engagement (DCRF)

Internal Communications Staff (DCRF1)

Division of External Communications and Consumer Education (DCRFA)

Strategic Communications Branch (DCRFA1)

Consumer Education Branch (DCRFA2)

Division of Public Engagement and Information (DCRFB)

Public Engagement Branch (DCRFB1)

Public Information Branch (DCRFB2)

Division of Web, Visual, and Virtual Communications (DCRFC)

Web Branch (DCRFC1)

Graphics and Virtual Collaboration Branch (DCRFC2)

Office of Surveillance Strategy and Risk Prioritization (DCRG)

Advisory and Operations Staff (DCRG1)

Division of Surveillance and Data Integration (DCRGA)

Surveillance Design Branch (DCRGA1)

Signal Detection and Bioinformatics Branch (DCRGA2)

Surveillance Systems Operations Branch (DCRGA3)

Data Integration Branch (DCRGA4)

Division of Risk Assessment and Prioritization (DCRGB)

Hazard Characterization and Assessment Branch (DCRGB1)

Exposure Assessment Branch (DCRGB2)

Risk Assessment and Ranking Branch (DCRGB3)

Division of Evaluation and Population Health Science (DCRGC)

Behavioral and Social Sciences Branch (DCRGC1)

Epidemiology and Medical Sciences Branch (DCRGC2)

Signal Coordination and Triage Branch (DCRGC3)

Office of Coordinated Outbreak Response, Evaluation and Emergency Preparedness (DCRH)

Division of Outbreak Data Management and Signals (DCRHA)

Division of Response (DCRHB)

Division of Preparedness and Emergency Programs (DCRHC)

Office of Compliance and Enforcement (DCRI)

Administrative Staff (DCRI1)

Compliance Initiatives Staff (DCRI2)

Office of Compliance Operations and Implementation (DCRIA)

Division of Compliance Operations (DCRIAA)

Compliance Operations Planning Branch (DCRIAA1)

Compliance Operations Analysis Branch (DCRIAA2)

Division of Compliance Implementation (DCRIAB)

Compliance Policy and Procedures Branch (DCRIAB1)

Compliance Programs and Assignments Branch (DCRIAB2)

Office of Enforcement (DCRIB)

Division of Critical Foods and Dietary Supplement Enforcement (DCRIBA)

Dietary Supplements Enforcement Branch (DCRIBA1)

Critical Foods and Labeling Enforcement Branch (DCRIBA2)

Division of Conventional Foods Enforcement (DCRIBB)

Conventional Foods Enforcement Branch 1(DCRIBB1)

Conventional Foods Enforcement Branch 2 (DCRIBB2)

Conventional Foods Enforcement Branch 3 (DCRIBB3)

Division of Produce and Imports Enforcement (DCRIBC)

Imports Enforcement Branch (DCRIBC1)

Produce Enforcement Branch (DCRIBC2)

Office of Compliance Intervention and Consultation (DCRIC)

Division of Recalls and Emerging Issues (DCRICA)

Recalls Branch (DCRICA1)

Emerging Issues Branch (DCRICA2)

Division of Compliance Consultation (DCRICB)

Compliance Consultation Branch 1 (DCRICB1)

Compliance Consultation Branch 2 (DCRICB2)

Office of Integrated Food Safety Systems Partnerships (DCRJ)

Partnerships Services Staff (DCRJ1)

Office of Domestic Partnerships (DCRJA)

Division of Domestic Partnership Coordination and Integration (DCRJAA)

Domestic Partnership Coordination and Integration Branch 1 (DCRJAA1)

Domestic Partnership Coordination and Integration Branch 2 (DCRJAA2)

Division of Domestic Partnership Investments (DCRJAB)

Human and Animal Branch (DCRJAB1)

Laboratory and Innovation Branch (DCRJAB2)

Produce Branch (DCRJAB3)

Office of Retailed Food Protection (DCRJB)

Division of Retail Food Protection Policy, Research, and Risk Assessment (DCRJBA)

Retail Food Protection Branch 1 (DCRJBA1)

Retail Food Protection Branch 2 (DCRJBA2)

Division of Retail Food Protection Implementation (DCRJBB)

Retail Food Protection Implementation Branch 1 (DCRJBB1)

Retail Food Protection Implementation Branch 2 (DCRJBB2)

Retail Food Protection Implementation Branch 3 (DCRJBB3)

Office of Food Chemical Safety, Dietary Supplements, and Innovation (DCRK)

Operations Staff (DCRK1)

Innovative Foods Staff (DCRK2)

Office of Pre-Market Additive Safety (DCRKA)

Division of Food Ingredients (DCRKAA)

Toxicology Review Branch (DCRKAA1)

Chemistry Evaluation Branch (DCRKAA2)

Regulatory Management Branch (DCRKAA3)

Division of Food Contact Substances (DCRKAB)

Toxicology Review Branch (DCRKAB1)

Chemistry Evaluation Branch (DCRKAB2)

Regulatory Management Branch (DCRKAB3)

Office of Post-Market Assessment (DCRKB)

Division of Chemical Contaminants (DCRKBA)

Division of Additives and Ingredients (DCRKBB)

Hazard Assessment and Analytics Branch (DCRKBB1)

Regulatory Management Branch (DCRKBB2)

Office of Dietary Supplement Programs (DCRKC)

Division of Policy and Regulatory Operations (DCRKCA)

Regulatory Operations Branch (DCRKCA1)

Policy and Communications Branch (DCRKCA2)

Division of Research and Evaluation (DCRKCB)

Identity and Status Branch (DCRKCB1)

Safety Evaluation Branch (DCRKCB2)

Nutrition Center of Excellence (DCRL)

Office of Nutrition and Food Labeling (DCRLA)

Division of Food Labeling and Standards (DCRLAA)

Labeling Regulations Implementation Branch (DCRLAA1)

Product Evaluation and Labeling Branch 1 (DCRLAA2)

Product Evaluation and Labeling Branch 2 (DCRLAA3)

Division of Nutrition Labeling, Science and Claims (DCRLAB)

Nutrition Assessment and Evaluation Branch (DCRLAB1)

Nutrition Science Review Branch (DCRLAB2)

Office of Critical Foods (DCRLB)

Infant Formula Pre-Market Review Staff (DCRLB1)

Office of Laboratory Operations and Applied Science (DCRM)

Office of Regulatory Testing and Surveillance (DCRMA)

Division of Science Program Coordination (DCRMAA)

Microbiology Branch (DCRMAA1)

Chemistry Branch (DCRMAA2)

Arkansas Human and Animal Food Laboratory (DCRMAB)

Arkansas Chemistry Branch (DCRMAB1)

Arkansas Microbiology Branch (DCRMAB2)

Atlanta Human and Animal Food Laboratory (DCRMAC)

Atlanta Chemistry Branch (DCRMAC1)

Atlanta Microbiology Branch (DCRMAC2)

Atlanta Nutrient Analysis Branch (DCRMAC3)

Denver Human and Animal Food Laboratory (DCRMAD)

Denver Chemistry Branch (DCRMAD1)

Denver Microbiology Branch (DCRMAD2)

Irvine Human and Animal Food Laboratory (DCRMAE)

Irvine Chemistry Branch (DCRMAE1)

Irvine Microbiology Branch (DCRMAE2)

Kansas City Human and Animal Food Laboratory (DCRMAF)

Kansas City Chemistry Branch 1 (DCRMAF1)

Kansas City Chemistry Branch 2 (DCRMAF2)

New York Human and Animal Food Laboratory (DCRMAG)

New York Chemistry Branch (DCRMAG1)

New York Microbiological Branch (DCRMAG2)

San Francisco Human and Animal Food Laboratory (DCRMAH)

San Francisco Chemistry Branch (DCRMAH1)

San Francisco Microbiology Branch (DCRMAH2)

Seattle Human and Animal Food Laboratory (DCRMAI)

Seattle Chemistry Branch (DCRMAI1)

Seattle Microbiology Branch (DCRMAI2)

Office of Applied Microbiology and Technology (DCRMB)

Division of Food and Environmental Safety (DCRMBA)

Environmental Microbiology Branch (DCRMBA1)

Virology and Parasitology Branch (DCRMBA2)

Microbial Methods Development Branch (DCRMBA3)

Division of Food Safety Genomics (DCRMBB)

Genomics Development and Application Branch (DCRMBB1)

Metagenomic Diversity and Ecology Branch (DCRMBB2)

Molecular Genetic Methods Branch (DCRMBB3)

Division of Food Processing Science and Technology (DCRMBC)

Chemistry and Process Engineering Branch (DCRMBC1)

Microbiology and Food Technology Branch (DCRMBC2)

Division of Seafood Science and Technology (DCRMBD)

Chemical Hazards Science Branch (DCRMBD1)

Microbiological Hazards Science Branch (DCRMBD2)

Office of Chemistry and Toxicology (DCRMC)

Division of Analytical Chemistry (DCRMCA)

Method Development Branch (DCRMCA1)

Spectroscopy and Mass Spectrometry Branch (DCRMCA2)

Division of Bioanalytical Chemistry (DCRMCB)

Bioanalytical Methods Branch (DCRMCB1)

Chemical Contaminants Branch (DCRMCB2)

Division of Toxicology (DCRMCC)

Predictive Toxicology Branch (DCRMCC1)

Systems Toxicology Branch (DCRMCC2)

Office of Scientific Coordination and Computational Sciences (DCRMD)

Senior Science Advisor Staff (DCRMD1)

Research Coordination Staff (DCRMD2)

GenomeTrakr and Computational Science Staff (DCRMD3)

Office of Quality Assessment and Management (DCRN)

Quality Assessment Staff (DCRN1)

Quality Management Staff (DCRN2)

Office of Microbiological Food Safety (DCRO)

Operations Staff (DCRO1)

Office of Dairy and Seafood Safety (DCROA)

Division of Dairy Safety (DCROAA)

Dairy Safety Policy Branch (DCROAA1)

Egg, Meat, and Laboratory Policy Branch (DCROAA2)

Dairy Operations East Branch (DCROAA3)

Dairy Operations West Branch (DCROAA4)

Division of Seafood Safety (DCROAB)

Shellfish and Aquaculture Policy Branch (DCROAB1)

Seafood Processing and Technology Policy Branch (DCROAB2)

Shellfish Operations Branch 1 (DCROAB3)

Shellfish Operations Branch 2 (DCROAB4)

Office of Produce Safety (DCROB)

Division of Fresh Produce Safety (DCROBA)

Fresh Produce Policy Branch (DCROBA1)

Produce Safety Engagement Branch (DCROBA2)

Division of Processed Food and Beverages Safety (DCROBB)

Processed Food and Beverages Policy Branch (DCROBB1)

Processed Produce Policy Branch (DCROBB2)

DCS. ORGANIZATION. The Office of Inspections and Investigations is headed by the Associate Commissioner for Inspections and Investigations, and includes the following organizational units:

Office of Inspections and Investigations (DCS)

Office of the Associate Commissioner for Inspections and Investigations (DCSA)

Division of Organizational Communication and Engagement (DCSAA)

Strategic Communication Staff (DCSAA1)

Executive Secretariat Staff (DCSAA2)

Office of Management (DCSB)

Office of Budget, Facilities and Travel Support (DCSBA)

Division of Financial Operations (DCSBAA)

Human and Animal Food Budget Execution Branch (DCSBAA1)

Budget Formulation Branch (DCSBAA2)

Medical Products and Tobacco Budget Execution Branch (DCSBAA3)

Division of Facilities and Property Management (DCSBAB)

Real Property Branch 1 (DCSBAB1)

Real Property Branch 2 (DCSBAB2)

Real Property Branch 3 (DCSBAB3)

Fleet and Personal Property Management Branch (DCSBAB4)

Real Property Branch 4 (DCSBAB5)

Real Property Branch 5 (DCSBAB6)

Real Property Branch 6 (DCSBAB7)

Division of Contracts and Grants (DCSBAC)

Operational Contracts and Agreements Branch 1 (DCSBAC1)

Operational Contracts and Agreements Branch 2 (DCSBAC2)

Division of Travel Operations (DCSBAD)

Domestic Travel Branch (DCSBAD1)

Foreign Travel Branch 1 (DCSBAD2)

Foreign Travel Branch 2 (DCSBAD3)

Foreign Travel Branch 3 (DCSBAD4)

Foreign Travel Branch 4 (DCSBAD5)

Office of Workforce Management (DCSBB)

Executive and Scientific Resource Staff (DCSBB1)

Division of Human Capital Staffing Services (DCSBBA)

Talent Acquisition Branch 1 (DCSBBA1)

Talent Acquisition Branch 2 (DCSBBA2)

Talent Acquisition Branch 3 (DCSBBA3)

Division of Human Capital Programs (DCSBBB)

Performance Management and Engagement Branch (DCSBBB1)

Management Analysis Branch (DCSBBB2)

Office of Animal Food Inspectorate (DCSC)

Division of Animal Food Inspectorate I (DCSCA)

Animal Food Investigations Branch 1 (DCSCA1)

Animal Food Investigations Branch 2 (DCSCA2)

Animal Food Investigations Branch 3 (DCSCA3)

Division of Animal Food Inspectorate II (DCSCB)

Animal Food Investigations Branch 1 (DCSCB1)

Animal Food Investigations Branch 2 (DCSCB2)

Animal Food Investigations Branch 3 (DCSCB3)

Office of Biologics Inspectorate (DCSD)

Biologics Global Operations Staff (DCSD1)

Division of Biologics Inspectorate I (DCSDB)

Biologics Investigations Branch 1 (DCSDB1)

Biologics Investigations Branch 2 (DCSDB2)

Biologics Investigations Branch 3 (DCSDB3)

Biologics Investigations Branch 4 (DCSDB4)

Division of Biologics Inspectorate II (DCSDC)

Biologics Investigations Branch 1 (DCSDC1)

Biologics Investigations Branch 2 (DCSDC2)

Biologics Investigations Branch 3 (DCSDC3)

Division of Biologics Inspectorate III (DCSDD)

Biologics Investigations Branch 1 (DCSDD1)

Biologics Investigations Branch 2 (DCSDD2)

Biologics Investigations Branch 3 (DCSDD3)

Division of Biotechnology Inspectorate (DCSDE)

Biotechnology Investigations Branch 1 (DCSDE1)

Biotechnology Investigations Branch 2 (DCSDE2)

Office of Bioresearch Monitoring Inspectorate (DCSE)

Division of Bioresearch Monitoring Global Operations (DCSEA)

Bioresearch Monitoring Foreign Investigations Branch 1 (DCSEA1)

Bioresearch Monitoring Foreign Investigations Branch 2 (DCSEA2)

Bioresearch Monitoring Inspectorate Expert Support Branch (DCSEA3)

Division of Bioresearch Monitoring Inspectorate I (DCSEB)

Bioresearch Monitoring Investigations Branch 1 (DCSEB1)

Bioresearch Monitoring Investigations Branch 2 (DCSEB2)

Bioresearch Monitoring Investigations Branch 3 (DCSEB3)

Bioresearch Monitoring Investigations Branch 4 (DCSEB4)

Division of Bioresearch Monitoring Inspectorate II (DCSEC)

Bioresearch Monitoring Investigations Branch 1 (DCSEC1)

Bioresearch Monitoring Investigations Branch 2 (DCSEC2)

Bioresearch Monitoring Investigations Branch 3 (DCSEC3)

Division of Bioresearch Monitoring Inspectorate III (DCSED)

Bioresearch Monitoring Investigations Branch 1 (DCSED1)

Bioresearch Monitoring Investigations Branch 2 (DCSED2)

Bioresearch Monitoring Investigations Branch 3 (DCSED3)

Division of Bioresearch Monitoring Inspectorate IV (DCSEF)

Bioresearch Monitoring Investigations Branch 1 (DCSEF1)

Bioresearch Monitoring Investigations Branch 2 (DCSEF2)

Bioresearch Monitoring Investigations Branch 3 (DCSEF3)

Office of Business Informatics and Solutions Management (DCSF)

Division of Import Business Informatics and Solutions (DCSFB)

Import Business Informatics Branch (DCSFB1)

Import Business Solutions Branch (DCSFB2)

Division of Regulatory Business Informatics and Solutions (DCSFC)

Regulatory Business Informatics Branch (DCSFC1)

Regulatory Business Solutions Branch (DCSFC2)

Division of Solutions Planning, Management and Governance (DCSFD)

Integrated Management and Investments Branch (DCSFD1)

Program Solutions and Services Branch (DCSFD2)

Division of Work Planning and Analytics (DCSFE)

Work Planning and Analytics Branch (DCSFE1)

Informatics and Process Quality Branch (DCSFE2)

Office of Criminal Investigations (DCSG)

Metro Washington Field Office (DCSGA)

Philadelphia Resident Unit (DCSGA1)

Chicago Field Office (DCSGB)

New York Field Office (DCSGC)

Boston, MA Resident Unit (DCSGC1)

Los Angeles Field Office (DCSGD)

San Francisco, CA Resident Unit (DCSGD1)

Miami Field Office (DCSGE)

San Juan, PR Resident Unit (DCSGE1)

Atlanta, GA Resident Unit (DCSGE2)

New Orleans, LA Resident Unit (DCSGE3)

Kansas City Field Office (DCSGF)

Dallas, TX Resident Unit (DCSGF1)

Office of Field Operations and Response (DCSH)

Organizational Quality Staff (DCSH1)

Office of Field Regulatory Operations (DCSHA)

Division of Field Enforcement (DCSHAA)

Health Fraud Inspectorate Branch (DCSHAA1)

Field Recall Effectiveness Branch (DCSHAA2)

Division of Inspectorate Policy (DCSHAB)

Food Inspectorate Policy Branch (DCSHAB1)

Medical Products and Tobacco Inspectorate Policy Branch (DCSHAB2)

Division of Tobacco Inspectorate (DCSHAC)

Tobacco Investigations Branch 1 (DCSHAC1)

Tobacco Investigations Branch 2 (DCSHAC2)

Office of Emergency Response (DCSHB)

Division of Emergency Response (DCSHBA)

Field Emergency Response Coordinators Branch 1 (DCSHBA1)

Field Emergency Response Coordinators Branch 2 (DCSHBA2)

Incident Coordination Branch (DCSHBA3)

Division of Emergency Preparedness and Support (DCSHBB)

Emergency Planning, Exercises and Evaluation Branch (DCSHBB2)

Program Operations and Coordination Branch (DCSHBB3)

Office of Training, Education, and Development (DCSI)

Division of Programmatic Training (DCSIA)

Programmatic Training Branch 1 (DCSIA1)

Programmatic Training Branch 2 (DCSIA2)

Division of Multi-Program, Leadership, and Management Training (DCSIB)

Multi-Program, Leadership, and Management Branch (DCSIB1)

Leadership, Management, and Mentoring Training Branch (DCSIB2)

Division of Instructional Systems and Technology (DCSIC)

Instructional Systems Branch (DCSIC1)

Learning Management Technology and Multimedia Branch (DCSIC2)

Certification Branch (DCSIC3)

Office of Human and Animal Drug Inspectorate (DCSJ)

Division of Human and Animal Drug Foreign Inspectorate (DCSJA)

Human and Animal Drug Foreign Investigations Branch 1 (DCSJA1)

Human and Animal Drug Foreign Investigations Branch 2 (DCSJA2)

Human and Animal Drug Foreign Operations Branch (DCSJA3)

Division of Human and Animal Drug Global Operations (DCSJB)

Human and Animal Drug Program Operations Branch (DCSJB1)

Human and Animal Drug Mutual Recognition Branch (DCSJB2)

Division of Human and Animal Drug Inspectorate I (DCSJC)

Human and Animal Drug Investigations Branch 1 (DCSJC1)

Human and Animal Drug Investigations Branch 2 (DCSJC2)

Human and Animal Drug Investigations Branch 3 (DCSJC3)

Human and Animal Drug Investigations Branch 4 (DCSJC4)

Human and Animal Drug Investigations Branch 5 (DCSJC5)

Division of Human and Animal Drug Inspectorate II (DCSJD)

Human and Animal Drug Investigations Branch 1 (DCSJD1)

Human and Animal Drug Investigations Branch 2 (DCSJD2)

Human and Animal Drug Investigations Branch 3 (DCSJD3)

Human and Animal Drug Investigations Branch 4 (DCSJD4)

Human and Animal Drug Investigations Branch 5 (DCSJD5)

Division of Human and Animal Drug Inspectorate III (DCSJE)

Human and Animal Drug Investigations Branch 1 (DCSJE1)

Human and Animal Drug Investigations Branch 2 (DCSJE2)

Human and Animal Drug Investigations Branch 3 (DCSJE3)

Human and Animal Drug Investigations Branch 4 (DCSJE4)

Human and Animal Drug Investigations Branch 5 (DCSJE5)

Division of Human and Animal Drug Inspectorate IV (DCSJF)

Human and Animal Drug Investigations Branch 1 (DCSJF1)

Human and Animal Drug Investigations Branch 2 (DCSJF2)

Human and Animal Drug Investigations Branch 3 (DCSJF3)

Human and Animal Drug Investigations Branch 4 (DCSJF4)

Human and Animal Drug Investigations Branch 5 (DCSJF5)

Division of Human and Animal Drug Inspectorate V (DCSJG)

Human and Animal Drug Investigations Branch 1 (DCSJG1)

Human and Animal Drug Investigations Branch 2 (DCSJG2)

Human and Animal Drug Investigations Branch 3 (DCSJG3)

Human and Animal Drug Investigations Branch 4 (DCSJG4)

Human and Animal Drug Investigations Branch 5 (DCSJG5)

Division of Human and Animal Drug Inspectorate VI (DCSJH)

Human and Animal Drug Investigations Branch 1 (DCSJH1)

Human and Animal Drug Investigations Branch 2 (DCSJH2)

Human and Animal Drug Investigations Branch 3 (DCSJH3)

Human and Animal Drug Investigations Branch 4 (DCSJH4)

Human and Animal Drug Investigations Branch 5 (DCSJH5)

Office of Human Food Inspectorate (DCSK)

Office of Human Food Inspectorate Central (DCSKA)

Division of Human Food Inspectorate Central I (DCSKAA)

Human Food Investigations Branch 1 (DCSKAA1)

Human Food Investigations Branch 2 (DCSKAA2)

Human Food Investigations Branch 3 (DCSKAA3)

Human Food Investigations Branch 4 (DCSKAA4)

Division of Human Food Inspectorate Central II (DCSKAB)

Human Food Investigations Branch 1 (DCSKAB1)

Human Food Investigations Branch 2 (DCSKAB2)

Human Food Investigations Branch 3 (DCSKAB3)

Human Food Investigations Branch 4 (DCSKAB4)

Human Food Investigations Branch 5 (DCSKAB5)

Division of Human Food Inspectorate Central III (DCSKAC)

Human Food Investigations Branch 1 (DCSKAC1)

Human Food Investigations Branch 2 (DCSKAC2)

Human Food Investigations Branch 3 (DCSKAC3)

Human Food Investigations Branch 4 (DCSKAC4)

Human Food Investigations Branch 5 (DCSKAC5)

Human Food Investigations Branch 6 (DCSKAC6)

Division of Human Food Inspectorate Central IV (DCSKAD)

Human Food Investigations Branch 1 (DCSKAD1)

Human Food Investigations Branch 2 (DCSKAD2)

Human Food Investigations Branch 3 (DCSKAD3)

Human Food Investigations Branch 4 (DCSKAD4)

Division of Human Food Inspectorate Central V (DCSKAE)

Human Food Investigations Branch 1 (DCSKAE1)

Human Food Investigations Branch 2 (DCSKAE2)

Human Food Investigations Branch 3 (DCSKAE3)

Human Food Investigations Branch 4 (DCSKAE4)

Human Food Investigations Branch 5 (DCSKAE5)

Office of Human Food Inspectorate East (DCSKB)

Division of Human Food Inspectorate East I (DCSKBA)

Human Food Investigations Branch 1 (DCSKBA1)

Human Food Investigations Branch 2 (DCSKBA2)

Human Food Investigations Branch 3 (DCSKBA3)

Human Food Investigations Branch 4 (DCSKBA4)

Human Food Investigations Branch 5 (DCSKBA5)

Division of Human Food Inspectorate East II (DCSKBB)

Human Food Investigations Branch 1 (DCSKBB1)

Human Food Investigations Branch 2 (DCSKBB2)

Human Food Investigations Branch 3 (DCSKBB3)

Human Food Investigations Branch 4 (DCSKBB4)

Division of Human Food Inspectorate East III (DCSKBC)

Human Food Investigations Branch 1 (DCSKBC1)

Human Food Investigations Branch 2 (DCSKBC2)

Human Food Investigations Branch 3 (DCSKBC3)

Human Food Investigations Branch 4 (DCSKBC4)

Division of Human Food Inspectorate East IV (DCSKBD)

Human Food Investigations Branch 1 (DCSKBD1)

Human Food Investigations Branch 2 (DCSKBD2)

Human Food Investigations Branch 3 (DCSKBD3)

Human Food Investigations Branch 4 (DCSKBD4)

Human Food Investigations Branch 5 (DCSKBD5)

Human Food Investigations Branch 6 (DCSKBD6)

Office of Human Food Inspectorate West (DCSKC)

Division of Human Food Inspectorate West I (DCSKCA)

Human Food Investigations Branch 1 (DCSKCA1)

Human Food Investigations Branch 2 (DCSKCA2)

Human Food Investigations Branch 3 (DCSKCA3)

Human Food Investigations Branch 4 (DCSKCA4)

Human Food Investigations Branch 5 (DCSKCA5)

Division of Human Food Inspectorate West II (DCSKCB)

Human Food Investigations Branch 1 (DCSKCB1)

Human Food Investigations Branch 2 (DCSKCB2)

Human Food Investigations Branch 3 (DCSKCB3)

Human Food Investigations Branch 4 (DCSKCB4)

Human Food Investigations Branch 5 (DCSKCB5)

Division of Human Food Inspectorate West III (DCSKCC)

Human Food Investigations Branch 1 (DCSKCC1)

Human Food Investigations Branch 2 (DCSKCC2)

Human Food Investigations Branch 3 (DCSKCC3)

Human Food Investigations Branch 4 (DCSKCC4)

Division of Human Food Inspectorate West IV (DCSKCD)

Human Food Investigations Branch 1 (DCSKCD1)

Human Food Investigations Branch 2 (DCSKCD2)

Human Food Investigations Branch 3 (DCSKCD3)

Human Food Investigations Branch 4 (DCSKCD4)

Office of Global and Specialty Human Food Inspectorate (DCSKD)

Human Food National Expert Staff (DCSKD1)

Division of Critical and Specialty Food (DCSKDA)

Critical Food Investigations Branch (DCSKDA1)

Food Defense Branch (DCSKDA2)

Human Food Program Expert Branch (DCSKDA3)

Emerging Food and Specialty Products Branch (DCSKDA4)

Division of Foreign Food Investigations and Global Operations (DCSKDB)

Foreign Food Investigations Branch 1 (DCSKDB1)

Foreign Food Investigations Branch 2 (DCSKDB2)

Foreign Food Investigations Branch 3 (DCSKDB3)

Foreign Food Operations Branch (DCSKDB4)

Foreign Food Coordination Branch (DCSKDB5)

Division of Produce Safety (DCSKDC)

Produce Safety Branch 1 (DCSKDC1)

Produce Safety Branch 2 (DCSKDC2)

Produce Safety Branch 3 (DCSKDC3)

Office of Import Operations (DCSL)

Division of Targeting and Analysis (DCSLA)

Division of Import Operations (DCSLB)

Import Operations Branch (DCSLB1)

Import Compliance Branch (DCSLB2)

Division of Analysis and Program Evaluation (DCSLC)

Program Development Branch (DCSLC1)

Import Technical Assistance Branch (DCSLC2)

Division of Southwest Imports (DCSLD)

Southwest Import Investigations Branch (DCSLD1)

Southwest Import Compliance Branch (DCSLD2)

Division of Southeast Imports (DCSLE)

Southeast Import Investigations Branch 1 (DCSLE1)

Southeast Import Investigations Branch 2 (DCSLE2)

Southeast Import Compliance Branch (DCSLE3)

Division of Northeast Imports (DCSLF)

Northeast Import Investigations Branch (DCSLF1)

Northeast Import Compliance Branch (DCSLF2)

Division of Northern Border Imports (DCSLG)

Northern Border Import Investigations Branch 1 (DCSLG1)

Northern Border Import Investigations Branch 2 (DCSLG2)

Northern Border Import Compliance Branch (DCSLG3)

Division of West Coast Imports (DCSLH)

West Coast Import Investigations Branch (DCSLH1)

West Coast Import Compliance Branch (DCSLH2)

Division of Planning and Public Response (DCSLI)

Office of Medical Device and Radiological Health Inspectorate (DCSM)

Division of Mammography and Radiological Health Inspectorate (DCSMA)

Mammography Operations Branch 1 (DCSMA1)

Mammography Operations Branch 2 (DCSMA2)

Division of Medical Device and Radiological Health Inspectorate I (DCSMB)

Medical Device and Radiological Health Investigations Branch 1 (DCSMB1)

Medical Device and Radiological Health Investigations Branch 2 (DCSMB2)

Medical Device and Radiological Health Investigations Branch 3 (DCSMB3)

Medical Device and Radiological Health Investigations Branch 4 (DCSMB4)

Division of Medical Device and Radiological Health Inspectorate II (DCSMC)

Medical Device and Radiological Health Investigations Branch 1 (DCSMC1)

Medical Device and Radiological Health Investigations Branch 2 (DCSMC2)

Medical Device and Radiological Health Investigations Branch 3 (DCSMC3)

Medical Device and Radiological Health Investigations Branch 4 (DCSMC4)

Medical Device and Radiological Health Investigations Branch 5 (DCSMC5)

Division of Medical Device and Radiological Health Inspectorate III (DCSMD)

Medical Device and Radiological Health Investigations Branch 1 (DCSMD1)

Medical Device and Radiological Health Investigations Branch 2 (DCSMD2)

Medical Device and Radiological Health Investigations Branch 3 (DCSMD3)

Medical Device and Radiological Health Investigations Branch 4 (DCSMD4)

Medical Device and Radiological Health Investigations Branch 5 (DCSMD5)

Division of Medical Device and Radiological Health Global Operations (DCSME)

Medical Device and Radiological Health Foreign Operations Branch (DCSME1)

Medical Device and Radiological Health Operations Branch (DCSME2)

Medical Device and Radiological Health Risk Mitigation and Response Branch (DCSME3)

Division of Medical Device and Radiological Health Inspectorate IV (DCSMF)

Medical Device and Radiological Health Investigations Branch 1 (DCSMF1)

Medical Device and Radiological Health Investigations Branch 2 (DCSMF2)

Medical Device and Radiological Health Investigations Branch 3 (DCSMF3)

Medical Device and Radiological Health Investigations Branch 4 (DCSMF4)

II. Delegations of Authority

Pending further delegation, directives, or orders by the Commissioner of Food and Drugs, all delegations and redelegations of authority made to officials and employees of affected organizational components will continue in them or their successors pending further redelegations, provided they are consistent with this reorganization.

III. Electronic Access

This reorganization is reflected in FDA's Staff Manual Guide (SMG). Persons interested in seeing the complete Staff Manual Guide can find it on FDA's website at: http://www.fda.gov/AboutFDA/ReportsManualsForms/StaffManualGuides/default.htm.

Authority: 44 U.S.C. 3101.

Xavier Becerra,
Secretary of Health and Human Services.

[FR Doc. 2024-11893 Filed 5-30-24; 11:15 am]

BILLING CODE 4164-01-P